INTERNATIONAL TRADE COMMISSION

[Investigation Nos. 701-TA-603-604 and 731-TA-1413-1414 (Final)]

Glycine From China, India, and Japan; Determinations

On the basis of the record ¹ developed in the subject investigations, the United States International Trade Commission (“Commission”) determines, pursuant to the Tariff Act of 1930 (“the Act”), that an industry in the United States is materially injured by reason of imports of glycine (provided for in subheadings 2922.49.43 and 2922.49.80 of the Harmonized Tariff Schedule of the United States) from India and Japan that the U.S. Department of Commerce (“Commerce”) has determined are sold in the United States at less than fair value (“LTFV”) and imports of glycine that Commerce has determined are subsidized by the governments of China and India.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective March 28, 2018, following receipt of petitions filed with the Commission and Commerce by Chattem Chemicals Inc., Chattanooga, Tennessee, and GEO Specialty Chemicals, Inc., Lafayette, Indiana. The final phase of the investigations was scheduled by the Commission following notification of preliminary determinations by Commerce that imports of glycine from China and India were subsidized within the meaning of section 703(b) of the Act (19 U.S.C. 1671b(b)) and imports of glycine from India and Japan were being sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 3, 2018 (83 FR 62345). A revised notice of the scheduling of the final phase of the Commission's investigations was published on February 12, 2019 (84 FR 3486). The hearing was held in Washington, DC, on April 30, 2019, and all persons who requested the opportunity were permitted to appear in person or by counsel.

The Commission made these determinations pursuant to sections 705(b) and 735(b) of the Act (19 U.S.C. 1671d(b) and 19 U.S.C. 1673d(b)). It completed and filed its determinations in these investigations on June 14, 2019. The views of the Commission are contained in USITC Publication 4900 (June 2019) entitled Glycine from China, India, and Japan: Investigation Nos. 701-TA-603-604 and 731-TA-1413-1414 (Final).

By order of the Commission.
Issued: June 14, 2019.
Lisa Barton,
Secretary to the Commission.

[FR Doc. 2019-13120 Filed 6-20-19; 8:45 am]

BILLING CODE 7020-02-P